FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than September 29, 2009.

A. Federal Reserve Bank of Dallas (E. Ann Worthy, Vice President) 2200 North Pearl Street, Dallas, Texas 75201-2272:

1. Robert B. Dunkin, Sr., Harlingen, Texas; Gilbert Garza, San Benito, Texas; and Fred L. Cole, Jr., Harlingen, Texas, as Trustees of a Voting Trust Agreement (“Agreement”) with respect to First San Benito Bancshares Corporation (the “Company”), San Benito, Texas, along with the shareholders that are parties to the Agreement: James S. Benson; Fred and Martha Cole, Jr.; Elizabeth Ann Cole, all of Harlingen, Texas; Charles A. Cox, Tampico, Tamaulipas, Mexico; Wendell J. Cox, Rockwall, Texas; Betty Joyce DeCarriere, San Benito, Texas; Annette Dillard; Lee Roy Dillard Jr., both of Georgetown, Texas; Robert B. Dunkin, Sr., Harlingen, Texas; Robert B. Dunkin, II, West Palm Beach, Florida; Charles O. Eubanks, Harlingen, Texas; Gilbert Garza, San Benito, Texas; Sue Ann Holloman, Harlingen, Texas; Estate of Warren Jackson; Angelia G. Leal, both of San Benito, Texas; Tracey M. Longshore, Friendswood, Texas; Elisa or Joe E. Lopez, Harlingen, Texas; Joaquin L. Lopez, McAllen, Texas; F.L. or Concepcion Lopez, Jr.; Carlos Muniz, both of Harlingen, Texas; Janet Miles Murphy, Birmingham, Alabama; John F. and Ann K. Phillips, Jr., Harlingen, Texas; Beto and Carmen Ramirez, San Benito, Texas; Phyllis M. Robinson, Burlington, Iowa; Beatriz Rodriguez, San Benito, Texas; Harry Shimotsu, La Feria, Texas; Kenneth Shimotsu; Robert L. Tumberlinson, both of San Benito, Texas; Thomas C. Washmon, Austin, Texas; Lucy Ann Wolthoff, Harlingen, Texas; and Joe C. Weaver, Dallas, Texas; to acquire voting shares of the Company, and thereby indirectly acquire voting shares of First Community Bank, National Association, San Benito, Texas.

Board of Governors of the Federal Reserve System, September 9, 2009.
Robert deV. Frierson,
Deputy Secretary of the Board.

[FR Doc. E9-22016 Filed 9-11-09; 8:45 am]

BILLING CODE 6210-01-S